DEPARTMENT OF COMMERCE

National Oceanic and Atmospheric Administration

50 CFR Part 660

[Docket No. 221206-0261]

RIN 0648-BM72

Magnuson-Stevens Act Provisions; Fisheries Off West Coast States; Pacific Coast Groundfish Fishery; 2023-2024 Biennial Specifications and Management Measures; Inseason Adjustments; Correction

AGENCY: National Marine Fisheries Service (NMFS), National Oceanic and Atmospheric Administration (NOAA), Commerce.

ACTION: Final rule; correction.

SUMMARY: NMFS published a final rule on November 29, 2023, to announce routine inseason adjustments to management measures in commercial and recreational groundfish fisheries for the 2024 fishing year. That rule is intended to allow commercial and recreational fishing vessels to access more abundant groundfish stocks while protecting overfished and depleted stocks. This action corrects the trip limits for the limited entry (LE) fixed gear and open access (OA) fleets for “Other Flatfish” (butter sole, curlfin sole, flathead sole, Pacific sanddab, rex sole, rock sole, and sand sole) south of latitude (lat.) 40°10′ North (N). This correction is necessary so that the implementing regulations are accurate and implement the action as intended by the Pacific Fishery Management Council (Council). This action also corrects a final rule published on December 1, 2023.

DATES: The corrections are effective on January 1, 2024.

FOR FURTHER INFORMATION CONTACT: Keeley Kent, phone: 206-526-4655, keeley.Kent@noaa.gov.

SUPPLEMENTARY INFORMATION:

Background

NMFS published the final rule to implement harvest specifications and management measures for the 2023-2024 biennium for most species managed under The Pacific Coast Groundfish Fishery Management Plan (PCGFMP) on December 16, 2022 (87 FR 77007). The harvest specifications and mitigation measures developed for the 2023-2024 biennium used data through the 2021 fishing year to help various sectors of the fishery attain, but not exceed, the catch limits for each stock. Based on updated fisheries information that was unavailable when the analysis for the current harvest specifications was completed, Council recommended that NMFS extend the duration of several measures implemented through an inseason action published on October 2, 2023 (88 FR 67656), to continue the minimization of mortality of quillback rockfish off California for the 2024 fishing season. The Council also recommended NMFS reset trip limits for several species for the 2024 fishing season. NMFS published a final rule on November 29, 2023 (88 FR 83354), that announces routine inseason adjustments to management measures in commercial and recreational groundfish fisheries for the 2024 fishing year.

Need for Correction

The November 29, 2023, final rule modified tables 2 north and south to part 660, subpart E, and tables 3 north and south to part 660, subpart F. NMFS implemented an area-based trip limit for LE and OA fleets between lat. 42° N and lat. 36° N seaward of the non-trawl Rockfish Conservation Area (RCA) for lingcod and other flatfish for all cumulative periods in 2024. The trip limits for other flatfish for the LE and OA fleets south of lat. 40°10' N were inadvertently changed from those that were intended by the final rule by switching the trip limits in areas lat. 40°10' N to lat. 36° N and south of lat. 36° N. The preamble to the final rule correctly notes that by reducing the “other flatfish” trip limit to 0 lbs/2 months between lat. 42° N and lat. 36° N inside the Non-Trawl RCA, and maintaining the current trip limits seaward of the Non-Trawl RCA, the inseason action would help prevent the possible interaction with quillback rockfish within the Non-Trawl RCA.

This action changes the trip limit to what was originally intended by correcting table 2 south to part 660, subpart E and table 3 south to part 660, subpart F in the regulations. For LE fixed gear between lat. 42° N to lat. 36° N, the trip limit for other flatfish will be 0 lbs/month inside the Non-Trawl RCA and 10,000 lbs/month seaward of the Non-Trawl RCA. For LE fixed gear south of lat. 36° N, the trip limit for other flatfish will be 10,000 lbs/month with no area restriction. Similarly, for OA, between lat. 42° N and lat. 36° N, the trip limit for other flatfish will be 0 lbs/month inside the Non-Trawl RCA and 5,000 lbs/month seaward of the Non-Trawl RCA. For OA south of lat. 36° N, the trip limit for other flatfish will be 5,000 lbs/month with no area restriction.

These corrections are consistent with the Council's recommendation for the inseason adjustments to the 2024 fishing year harvest specifications and are minor corrections necessary to correctly implement the Council intent in their final action from November 2023.

This rule also removes amendatory instructions published in the final rule for Amendment 32 to the Groundfish FMP (December 1, 2023; 88 FR 83830). The amendatory instructions created erroneous and incorrect table headings for tables 2 north and south to part 660, subpart E, and tables 3 north and south to part 660, subpart F.

Classification

Pursuant to 5 U.S.C. 553(b)(B), the Assistant Administrator for Fisheries (AA) finds there is good cause to waive prior notice and an opportunity for public comment on this action, as notice and comment would be unnecessary and contrary to public interest. Notice and comment are unnecessary and contrary to the public interest because this action corrects inadvertent errors in the November 29, 2023, final rule. Immediate notice of the errors and correction is necessary to prevent confusion among participants in the fishery that could result in issues with enforcement of area management. To effectively correct the errors, the changes in this action must be effective on January 1, 2024, which is the effective date of the November 29, 2023, final rule. Thus, there is not sufficient time for notice and comment due to the imminent effective date of the November 29, 2023, final rule. In addition, notice and comment is unnecessary because this notice makes only minor changes to correct the final rule and is consistent with the expectation of the public. These corrections will not affect the results of analyses conducted to support management decisions in the Pacific coast groundfish fishery.

For the same reasons stated above, the AA has determined that good cause exists to waive the 30-day delay in effectiveness pursuant to 5 U.S.C. 553(d). This document makes only minor corrections to the final rule which will be effective January 1, 2024. Delaying effectiveness of these corrections would result in conflicts in the regulations and confusion among fishery participants. Because prior notice and an opportunity for public comment are not required to be provided for this rule by 5 U.S.C. 553, or any other law, the analytical requirements of the Regulatory Flexibility Act, 5 U.S.C. 601 et seq., are not applicable. Accordingly, no Regulatory Flexibility Analysis is required for this rule and none has been prepared.

This final rule is not significant under Executive Order 12866.

Corrections

Effective January 1, 2024, in FR Doc. 2023-26018 at 88 FR 83354 in the issue of November 29, 2023:

Table 2 (North) to Part 660, Subpart E—[Corrected]

1. On page 83359, in amendatory instruction 2, “Table 2 (North) to Part 660, Subpart E—Non-Trawl Rockfish Conservation Areas and Trip Limits for Limited Entry Fixed Gear North of 40°10′ N Lat.″ Is corrected to read as follows:

Table 2 (North) to Part 660, Subpart E—Non-Trawl Rockfish Conservation Areas and Trip Limits for Limited Entry Fixed Gear North of 40°10′ N Lat.

Table 2 (South) to Part 660, Subpart E—[Corrected]

2. On page 83360, in amendatory instruction 3, “Table 2 (South) to Part 660, Subpart E—Non-Trawl Rockfish Conservation Areas and Trip Limits for Limited Entry Fixed Gear South of 40°10′ N Lat.″ Is corrected to read as follows:

Table 2 (South) to Part 660, Subpart E—Non-Trawl Rockfish Conservation Areas and Trip Limits for Limited Entry Fixed Gear South of 40°10′ N Lat.

Table 3 (North) to Part 660, Subpart F—[Corrected]

3. On page 83361, in amendatory instruction 4, “Table 3 (North) to Part 660, Subpart F—Non-Trawl Rockfish Conservation Areas and Trip Limits for Open Access Gears North of 40°10′ N Lat.″ Is corrected to read as follows:

Table 3 (North) to Part 660, Subpart F—Non-Trawl Rockfish Conservation Areas and Trip Limits for Open Access Gears North of 40°10′ N Lat.

Table 3 (South) to Part 660, Subpart F—[Corrected]

4. On page 83362, in amendatory instruction 5, “Table 3 (South) to Part 660, Subpart F—Non-Trawl Rockfish Conservation Areas and Trip Limits for Open Access Gears South of 40°10′ N Lat.″ is corrected to read as follows:

Table 3 (South) to Part 660, Subpart F—Non-Trawl Rockfish Conservation Areas and Trip Limits for Open Access Gears South of 40°10′ N Lat.

Effective January 1, 2024, in FR Doc. 2023-25905 at 88 FR 83830 in the issue of December 1, 2023:

Subpart E of Part 660—[Corrected]

5. On page 83850, remove amendatory instruction 19 and the accompanying regulatory text revising table 2 (North) and table 2 (South) to part 660, subpart E, and redesignate amendatory instructions 20 through 22 as amendatory instructions 19 through 21.

Subpart F of Part 660—[Corrected]

6. On page 83855, remove amendatory instruction 23 and the accompanying regulatory text revising table 3 (North) and table 3 (South) to part 660, subpart F, and redesignate amendatory instructions 24 and 25 as amendatory instructions 22 and 23.

Authority: 16 U.S.C. 1801 et seq.

Dated: December 12, 2023.
Everett Wayne Baxter,
Acting Director, Office of Sustainable Fisheries, National Marine Fisheries Service.

[FR Doc. 2023-27689 Filed 12-28-23; 8:45 am]

BILLING CODE P